DEPARTMENT OF COMMERCE

Foreign-Trade Zones Board

Docket 19-2008

Foreign-Trade Zone 26 Atlanta, GA, Application for Subzone Status, KIA Motors Manufacturing Georgia, Inc. (Motor Vehicles)

An application has been submitted to the Foreign-Trade Zones Board (the Board) by the Georgia Foreign-Trade Zone, Inc., grantee of FTZ 26, requesting special-purpose subzone status for the motor vehicle manufacturing plant of Kia Motors Manufacturing Georgia, Inc. (KMMG), located in West Point, Georgia. The application was submitted pursuant to the provisions of the Foreign-Trade Zones Act, as amended (19 U.S.C. 81a-81u), and the regulations of the Board (15 CFR part 400). It was formally filed on March 28, 2008.

The KMMG plant (635 acres/2.4 million sq.ft.) is to be located at 700 Kia Parkway in West Point (Troup County), Georgia. The facility, currently under construction, will be used to produce light-duty passenger vehicles (sedans, sport utility vehicles, minivans) for export and the domestic market. At full capacity, the facility (about 2,500 employees) will manufacture up to approximately 350,000 vehicles annually. Components to be purchased from abroad (representing approximately 25% of total material inputs, by value) would include: oils, hydraulic fluids, pipe/tube of plastics, paint, plastic knobs, flexible rubber tubes/hoses, self-adhesive plastic or polyurethane sheets/foil/film, labels, tape, rubber belts, tires, gaskets, seals, floor mats, safety glass, mirrors, pipe fittings, stranded wire of steel and copper, pins, hangers, brake cables, body parts, trim parts, articles of base metals, doors, fasteners, cotter pins, helical springs, catalytic converters, locks and keys, spark-ignition and diesel engines, engine parts, pumps, compressors, air conditioner components, filters, valves, parts of steering systems, steering wheels, hubs and flanges, universal joints, clutches, half/drive shafts, transmissions and parts of transmissions, torque converters, differentials, bearings and parts thereof, compasses, thermostats, motors, batteries, ignition parts, electrical parts, lighting equipment, horns, windshield wipers, audio/video components, speakers, antennas, wiring harnesses, carpet sets, seats, seat belts, airbag modules/inflators, brake components, wheels, wheel locks, lug nuts, lug wrenches, suspension components, radiators, exhaust systems, hinges, pneumatic dampeners, speedometers, tachometers, voltmeters, flow meters, regulators/controllers, windshields, glass windows, resistors, relays, starters, clocks, spark plugs, and switches (duty rate range: free 9.0%).

FTZ procedures would exempt KMMG from customs duty payments on foreign components used in export production (estimated to be 10% of plant shipments). On its domestic sales, KMMG would be able to choose the duty rate that applies to finished passenger vehicles (2.5%) for the foreign inputs noted above that have higher rates. Customs duties also could possibly be deferred or reduced on foreign status production equipment. The application indicates that the savings from FTZ procedures would help improve the facility's international competitiveness.

In accordance with the Board's regulations, Pierre Duy of the FTZ Staff is designated examiner to investigate the application and report to the Board.

Public comment is invited from interested parties. Submissions (original and 3 copies) shall be addressed to the Board's Executive Secretary at the address below. The closing period for their receipt is June 16, 2008. Rebuttal comments in response to material submitted during the foregoing period may be submitted during the subsequent 15-day period to June 30, 2008.

A copy of the application and accompanying exhibits will be available for public inspection at each of the following locations: U.S. Department of Commerce Export Assistance Center, 75 Fifth Street, N.W., Suite 1055, Atlanta, Georgia 30308; and, Office of the Executive Secretary, Foreign-Trade Zones Board, Room 2111, U.S. Department of Commerce, 1401 Constitution Avenue, NW, Washington, DC 20230-0002. For further information, contact Pierre Duy at pierre_duy@ita.doc.gov, or (202) 482-1378.

Dated: April 3, 2008.
Andrew McGilvray,
Executive Secretary.

[FR Doc. E8-8034 Filed 4-14-08; 8:45 am]

BILLING CODE 3510-DS-S